NUCLEAR REGULATORY COMMISSION

[Docket No. 50-370]

Duke Power Company LLC; Notice of Withdrawal of Application for Amendment to Facility Operating License

The U.S. Nuclear Regulatory Commission (the Commission) has granted the request of Duke Power Company LLC (the licensee) to withdraw its November 7, 2007, application for proposed amendment to Facility Operating License No. NPF 17 for the McGuire Nuclear Station, Unit 2 (McGuire 2), located in Mecklenburg County, North Carolina.

The proposed amendment would have revised the Technical Specifications pertaining to the Unit 2 auxiliary feedwater (AFW) system “A” train to be declared inoperable for an additional 72 hours beyond the allowed 72 hours for piping modifications and testing of the Nuclear Service Water System (NSW). The evolution is scheduled to be performed within the allowed time (72 hours) for one train of AFW to be inoperable. However, implementation and schedule uncertainty could lead to exceeding the allowed 72 hours for the AFW Technical Specification. Therefore, in an effort to avoid an unnecessary Unit 2 shutdown or submittal of a request for Enforcement Discretion, McGuire 2 requested a one-time limited duration TS change. The Commission had previously issued a Notice of Consideration of Issuance of Amendment published in the Federal Register on December 5, 2007 (72 FR 68595). However, by letter dated December 18, 2007, the licensee withdrew the proposed change.

For further details with respect to this action, see the application for amendment dated November 7, 2007, and the licensee's letter dated December 18, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 3rd day of March 2008.
For the Nuclear Regulatory Commission.
John Stang,
Senior Project Manager, Plant Licensing Branch II-1, Division of Operating Reactor Licensing, Office of Nuclear Reactor Regulation.

[FR Doc. E8-4852 Filed 3-10-08; 8:45 am]

BILLING CODE 7590-01-P